FEDERAL DEPOSIT INSURANCE CORPORATION

Sunshine Act Meetings

TIME AND DATE: 10:00 a.m. on April 25, 2024.

PLACE: The meeting was held in the FDIC Board Room, 550 17th Street NW, Washington, DC, and was webcast to the public.

MATTERS TO BE CONSIDERED: Pursuant to the provisions of the “Government in the Sunshine Act” (5 U.S.C. 552b), notice is hereby given that the Federal Deposit Insurance Corporation's Board of Directors met in open session at 10:00 a.m. on Thursday, April 25, 2024, to consider the following matters:

Summary Agenda: Disposition of Minutes of a Board of Directors' Meeting Previously Distributed.

Report of actions taken pursuant to authority delegated by the Board of Directors.

Discussion Agenda: Memorandum re: Deposit Insurance Fund Restoration Plan Semiannual Update.

Memorandum and resolution re: Proposals Related to Change in Bank Control Act.

CONTACT PERSON FOR MORE INFORMATION: Requests for further information concerning the meeting may be directed to Debra A. Decker, Executive Secretary of the Corporation, at 202-898-8748.

Dated at Washington, DC, on April 25, 2024.
Federal Deposit Insurance Corporation.
James P. Sheesley,
Assistant Executive Secretary.

[FR Doc. 2024-09294 Filed 4-26-24; 11:15 am]

BILLING CODE 6714-01-P